DEPARTMENT OF ENERGY

Federal Energy Regulatory Commission

Notice of Proposed Changes in FERC Gas Tariff

August 24, 2006.

Black Marlin Pipeline Company | Docket No. RP06-491-000.
Cheyenne Plains Gas Pipeline Company, L.L.C | Docket No. RP06-481-000.
Colorado Interstate Gas Company | Docket No. RP06-482-000.
Discovery Gas Transmission LLC | Docket No. RP06-492-000.
Dominion Cove Point LNG, LP | Docket No. RP06-472-000.
Dominion South Pipeline Company, LP | Docket No. RP06-471-000.
Dominion Transmission, Inc | Docket No. RP06-474-000.
Dominion Transmission, Inc | Docket No. RP05-474-001.
El Paso Natural Gas Company | Docket No. RP06-480-000.
Enbridge Pipelines (AlaTenn) L.L.C | Docket No. RP06-498-000.
Enbridge Pipelines (KPC) | Docket No. RP06-497-000.
Enbridge Pipelines (Midla) L.L.C | Docket No. RP06-502-000.
Garden Banks Gas Pipeline, LLC | Docket No. RP06-500-000.
Kern River Gas Transmission Company | Docket No. RP06-476-000.
Kinder Morgan Interstate Gas Transmission LLC | Docket No. RP06-503-000.
Mississippi Canyon Gas Pipeline, LLC | Docket No. RP06-504-000.
Mojave Pipeline Company | Docket No. RP06-478-000.
Nautilus Pipeline Company, L.L.C | Docket No. RP06-501-000.
Northwest Pipeline Corporation | Docket No. RP06-505-000.
Pine Needle LNG Company, LLC | Docket No. RP06-487-000.
Rockies Express Pipeline, LLC | Docket No. RP06-496-000.
Southern Star Central Gas Pipeline, Inc | Docket No. RP06-493-000.
Steuben Gas Storage Company | Docket No. RP06-485-000.
Stingray Pipeline Company, L.L.C | Docket No. RP06-499-000.
TransColorado Gas Transmission Company | Docket No. RP06-495-000.
Transcontinental Gas Pipe Line Corporation | Docket No. RP06-488-000.
Wyoming Interstate Company, Ltd | Docket No. RP06-479-000.
Young Gas Storage Company, LTD | Docket No. RP06-483-000.

Take notice that the above-referenced pipelines tendered for filing their tariff sheets respectively, pursuant to section 154.402 of the Commission's Regulations to reflect the Commission's change in the unit rate for the Annual Charge Adjustment (ACA) surcharge to applied to rates for recovery of 2006 Annual Charges pursuant to Order No. 472, in Docket No. RM87-3-000. The proposed effective date of the tariff sheets is October 1, 2006.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

Due to the large number of pipelines that have filed to comply with the Annual Charge Adjustment Billing, the Commission is issuing this single notice of the filings. The filings issued and received are reflected in the caption of this notice.

Any person desiring to become a party in any of the listed dockets must file a separate motion to intervene in each docket for which they wish party status.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 31, 2006.

Magalie R. Salas,
Secretary.

[FR Doc. E6-14404 Filed 8-29-06; 8:45 am]

BILLING CODE 6717-01-P